ENVIRONMENTAL PROTECTION AGENCY

40 CFR Part 52

[EPA-R09-OAR-2014-0696; FRL-9921-38-Region 9]

Revisions to the California State Implementation Plan, Ventura County Air Pollution Control District

AGENCY: Environmental Protection Agency.

ACTION: Final rule.

SUMMARY: The Environmental Protection Agency (EPA) is taking final action to approve a revision to the Ventura County Air Pollution Control District (VCAPCD) portion of the California State Implementation Plan (SIP). This revision concerns the District's reasonably available control technology (RACT) requirements under the 2008 8-hour ozone National Ambient Air Quality Standards (NAAQS). We are approving this document under the Clean Air Act (CAA or the Act).

DATES: This rule will be effective on February 17, 2015.

ADDRESSES: EPA has established docket number EPA-R09-OAR-2014-0696 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. Proposed Action

II. Public Comments and EPA Responses

III. EPA Action

IV. Statutory and Executive Order Reviews

I. Proposed Action

On October 29, 2014 (79 FR 64353), EPA proposed to approve the following document into the California SIP.

Local agency | Document | Adopted | Submitted
VCAPCD | 2014 Reasonably Available Control Technology (RACT) State Implementation Plan (SIP) Revision (“2014 RACT SIP”) | 6/10/14 | 7/18/14

VCAPCD's submittal also included the following negative declarations which the District certified that it had no sources subject to the control techniques guidelines (CTG) documents.

CTG source category | CTG reference document
Aerospace | EPA-453/R-97-004, Aerospace CTG and MACT
Automobile and Light-duty Trucks, Surface Coating of | EPA-450/2-77-008, Control of Volatile Organic Emissions from Existing Stationary Sources—Volume II: Surface Coating of Cans, Coils, Paper, Fabrics, Automobiles, and Light-Duty Trucks.
| EPA 453/R-08-006, Control Techniques Guidelines for Automobile and Light-Duty Truck Assembly Coatings.
Cans and Coils, Surface Coating of | EPA-450/2-77-008, Control of Volatile Organic Emissions from Existing Stationary Sources—Volume II: Surface Coating of Cans, Coils, Paper, Fabrics, Automobiles, and Light-Duty Trucks.
Flat Wood Paneling, Surface Coating of | EPA-450/2-78-032, Control of Volatile Organic Emissions from Existing Stationary Sources—Volume VII: Factory Surface Coating of Flat Wood Paneling.
| EPA-453/R-06-004, Control Techniques Guidelines for Flat Wood Paneling Coatings.
Flexible Packaging Printing | EPA-453/R-06-003, Control Techniques Guidelines for Flexible Package Printing.
Large Appliances, Surface Coating of | EPA-450/2-77-034, Control of Volatile Organic Emissions from Existing Stationary Sources—Volume V: Surface Coating of Large Appliances.
| EPA 453/R-07-004, Control Techniques Guidelines for Large Appliance Coatings.
Magnet Wire, Surface Coating for Insulation of | EPA-450/2-77-033, Control of Volatile Organic Emissions from Existing Stationary Sources—Volume IV: Surface Coating of Insulation of Magnet Wire.
Metal Furniture Coatings | EPA-450/2-77-032, Control of Volatile Organic Emissions from Existing Stationary Sources—Volume III: Surface Coating of Metal Furniture.
| EPA 453/R-07-005, Control Techniques Guidelines for Metal Furniture Coatings.
Paper, Film and Foil Coatings | EPA 453/R-07-003, Control Techniques Guidelines for Paper, Film, and Foil Coatings.
Petroleum Refineries | EPA-450/2-77-025, Control of Refinery Vacuum Producing Systems, Wastewater Separators, and Process Unit Turnarounds.
| EPA-450/2-78-036, Control of Volatile Organic Compound Leaks from Petroleum Refinery Equipment.
Fiberglass Boat Manufacturing | EPA 453/R-08-004, Control Techniques Guidelines for Fiberglass Boat Manufacturing Materials.
Industrial Adhesives | EPA 453/R-08-005, Control Techniques Guidelines for Miscellaneous Industrial Adhesives.
Pharmaceutical Products | EPA-450/2-78-029, Control of Volatile Organic Emissions from Manufacture of Synthesized Pharmaceutical Products.
Pneumatic Rubber Tires, Manufacture of | EPA-450/2-78-030, Control of Volatile Organic Emissions from Manufacture of Pneumatic Rubber Tires.
Polyester Resin | EPA-450/3-83-008, Control of Volatile Organic Compound Emissions from Manufacture of High-Density Polyethylene, Polypropylene, and Polystyrene Resins.
| EPA-450/3-83-006, Control of Volatile Organic Compound Leaks from Synthetic Organic Chemical Polymer and Resin Manufacturing Equipment.
Synthetic Organic Chemical Manufacturing | EPA-450/3-84-015, Control of Volatile Organic Compound Emissions from Air Oxidation Processes in Synthetic Organic Chemical Manufacturing Industry.
| EPA-450/4-91-031, Control of Volatile Organic Compound Emissions from Reactor Processes and Distillation Operations in Synthetic Organic Chemical Manufacturing Industry.
Petroleum Solvent Dry Cleaners | EPA-450/3-82-009, Control of Volatile Organic Compound Emissions from Large Petroleum Dry Cleaners.

Section III.D. of the preamble to EPA's proposed rule to implement the 2008 NAAQS (78 FR 34178, June 6, 2013) states in part that “RACT SIPs must contain adopted RACT regulations, certifications where appropriate that existing provisions are RACT, and/or negative declarations that there are no sources in the nonattainment area covered by a specific CTG source category.” We proposed to approve VCAPCD's 2014 RACT SIP and negative declarations because we determined that they complied with the relevant CAA requirements and the RACT SIP requirements discussed in EPA's proposed rule to implement the 2008 NAAQS for ozone. Our proposed action contains more information on the submitted document and our evaluation.

II. Public Comments and EPA Responses

EPA's proposed action provided a 30-day public comment period. During this period, we received no comments.

III. EPA Action

No comments were submitted. Therefore, as authorized in section 110(k)(3) of the Act, EPA is fully approving this document, including the negative declarations into the California SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by March 16, 2015. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Ozone, Reporting and recordkeeping requirements, Volatile organic compounds.

Dated: December 12, 2014.
Jared Blumenfeld,
Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(449) to read as follows:

§ 52.220 Identification of plan.

* * * * *

(c) * * *

(449) New and amended regulations for the following APCDs were submitted on July 18, 2014 by the Governor's designee.

(i) [Reserved]

(ii) Additional material.

(A) Ventura County Air Pollution Control District.

(1) Reasonably Available Control Technology State Implementation Plan Revision (2014 RACT SIP) as adopted on June 10, 2014 (“2014 RACT SIP”).

3. Section 52.222 is amended by:

a. In paragraph (a)(10)(i), removing “(i)” and adding in its place “(i)”; and

b. Adding paragraph (a)(10)(ii).

The addition reads as follows:

§ 52.222 Negative declarations.

(a) * * *

(10) * * *

(ii) Negative declarations for the 2008 8-hour ozone standard: EPA-453/R-97-004 Aerospace CTG and MACT; EPA-450/2-77-008 Control of Volatile Organic Emissions from Existing Stationary Sources—Volume II: Surface Coating of Cans, Coils, Paper, Fabrics, Automobiles, and Light-Duty Trucks; EPA 453/R-08-006 Control Techniques Guidelines for Automobile and Light-Duty Truck Assembly Coatings; EPA-450/2-78-032, Control of Volatile Organic Emissions from Existing Stationary Sources—Volume VII: Factory Surface Coating of Flat Wood Paneling; EPA-453/R-06-004, Control Techniques Guidelines for Flat Wood Paneling Coatings; EPA-453/R-06-003 Control Techniques Guidelines for Flexible Package Printing; EPA-450/2-77-034 Control of Volatile Organic Emissions from Existing Stationary Sources—Volume V: Surface Coating of Large Appliances; EPA 453/R-07-004 Control Techniques Guidelines for Large Appliance Coatings; EPA-450/2-77-033 Control of Volatile Organic Emissions from Existing Stationary Sources—Volume IV: Surface Coating of Insulation of Magnet Wire; EPA-450/2-77-032 Control of Volatile Organic Emissions from Existing Stationary Sources—Volume III: Surface Coating of Metal Furniture; EPA 453/R-07-005 Control Techniques Guidelines for Metal Furniture Coatings; EPA 453/R-07-003 Control Techniques Guidelines for Paper, Film, and Foil Coatings; EPA-450/2-77-025 Control of Refinery Vacuum Producing Systems, Wastewater Separators, and Process Unit Turnarounds; EPA-450/2-78-036 Control of Volatile Organic Compound Leaks from Petroleum Refinery Equipment; EPA 453/R-08-004 Control Techniques Guidelines for Fiberglass Boat Manufacturing Materials; EPA 453/R-08-005 Control Techniques Guidelines for Miscellaneous Industrial Adhesives; EPA-450/2-78-029 Control of Volatile Organic Emissions from Manufacture of Synthesized Pharmaceutical Products; EPA-450/2-78-030 Control of Volatile Organic Emissions from Manufacture of Pneumatic Rubber Tires; EPA-450/3-83-008 Control of Volatile Organic Compound Emissions from Manufacture of High-Density Polyethylene, Polypropylene, and Polystyrene Resins; EPA-450/3-83-006 Control of Volatile Organic Compound Leaks from Synthetic Organic Chemical Polymer and Resin Manufacturing Equipment; EPA-450/3-84-015 Control of Volatile Organic Compound Emissions from Air Oxidation Processes in Synthetic Organic Chemical Manufacturing Industry; EPA-450/4-91-031 Control of Volatile Organic Compound Emissions from Reactor Processes and Distillation Operations in Synthetic Organic Chemical Manufacturing Industry; EPA-450/3-82-009 Control of Volatile Organic Compound Emissions from Large Petroleum Dry Cleaners were submitted on July 18, 2014 and adopted on June 10, 2014.

* * * * *

[FR Doc. 2015-00011 Filed 1-14-15; 8:45 am]

BILLING CODE 6560-50-P